FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 10, 2014.

A. Federal Reserve Bank of Kansas City (Dennis Denney, Assistant Vice President) 1 Memorial Drive, Kansas City, Missouri 64198-0001:

1. Robert Craig Duncan and Diana H. Duncan Revocable Trust, R. Craig Duncan and Diana H. Duncan as trustees, all of Winfield, Kansas; Robert E. Duncan Revocable Trust, R. Craig Duncan, as trustee, both of Winfield, Kansas; Jane Gary Duncan Revocable Trust, Jane Gary Duncan, as Trustee, both of Winfield, Kansas; George Duncan and Adrianna Duncan, both of Santa Fe, New Mexico; Spencer Duncan and Tessa Duncan, both of Wichita, Kansas; and Taylor Duncan and Tara Duncan, both of Winfield, Kansas, all as members of the R. Craig Duncan Family Group; to retain voting shares of Cornerstone Alliance, Ltd, and thereby indirectly retain voting shares of CornerBank, both in Winfield, Kansas.

B. Federal Reserve Bank of Dallas (E. Ann Worthy, Vice President) 2200 North Pearl Street, Dallas, Texas 75201-2272:

1. Benjy Marc Bauer; Elizabeth Theresa Bauer; Jacob Kopple Bauer; Simone Heyman Bauer, all of Waco, Texas; Rana Sue Bauer, Austin, Texas; Jacqueline Kalize Bauer, Woodway, Texas; and Eric Kandon Bauer, Dallas, Texas, collectively a group acting in concert; to acquire voting shares of ABCT Holdings, Inc., and thereby indirectly acquire voting shares of Alliance Bank Central Texas, both in Waco, Texas.

Board of Governors of the Federal Reserve System, September 22, 2014.
Michael J. Lewandowski,
Associate Secretary of the Board.

[FR Doc. 2014-22822 Filed 9-24-14; 8:45 am]

BILLING CODE 6210-01-P